DEPARTMENT OF THE INTERIOR

Fish and Wildlife Service

DEPARTMENT OF COMMERCE

National Oceanic and Atmospheric Administration

[FWS-R1-R-2008-N0040; 1265-0000-10137-S3]

Papahānaumokuākea Marine National Monument, Hawaii

AGENCIES: U.S. Fish and Wildlife Service (FWS), Interior; National Oceanic and Atmospheric Administration (NOAA), Commerce.

ACTION: Notice of extension of the public comment period for the draft monument management plan and environmental assessment.

SUMMARY: This notice advises the public that the public comment period has been extended for the NOAA, FWS, and the State of Hawaii's Department of Land and Natural Resources (DLNR), and Office of Hawaiian Affairs' Draft Monument Management Plan (MMP) and associated environmental assessment (EA) for the Papahānaumokuākea Marine National Monument (Monument). See SUPPLEMENTARY INFORMATION for details.

DATES: To ensure consideration, we must receive written comments by July 23, 2008.

ADDRESSES: The Draft MMP and EA are available on the FWS and NOAA Web sites http://www.fws.gov/pacificislands and http://hawaiireef.noaa.gov/, as well as at local libraries within the State of Hawaii. You may provide written comments on the Draft MMP and EA by any of the following methods:

U.S. Mail: Papahānaumokuākea Marine National Monument, Attn: Susan White, FWS Superintendent, Box 50167, Honolulu, HI 96850-5000 (must be postmarked by July 23);

Hand-delivery: Papahānaumokuākea Marine National Monument at 300 Ala Moana Blvd., Room 5-231 in Honolulu; or

E-mail: PMNM_MMP_Comments@fws.gov.

FOR FURTHER INFORMATION CONTACT: Susan White, FWS Superintendent, phone (808) 792-9480.

SUPPLEMENTARY INFORMATION: The 75-day federal public comment period for the Draft Papahānaumokuākea Marine National Monument Management Plan (73 FR 21975, April 23, 2008) has been extended for an additional 15 days, until July 23, 2008. The draft plan was released by the National Oceanic and Atmospheric Administration, the U.S. Fish and Wildlife Service, the State of Hawaii's Department of Land and Natural Resources, and the Office of Hawaiian Affairs on April 22. During a series of ten public meetings in June, members of the public requested an extension of the comment period due to the size of the draft plan.

The 90-day federal comment period will end on July 23, 2008. Although the official State comment period occurs from June 8 through July 8 in accordance with State regulations from the Office of Environmental Quality Control, the State will review, consider and address public comments received during the entire comment period. All substantive comments received during the public comment period will be addressed in a Summary of Public Comments section of the final Monument Management Plan, which will compose Volume V of the plan.

Dated: July 8, 2008.
Daniel J. Basta,
Director, Office of National Marine Sanctuaries, National Oceanic and Atmospheric Administration.
Dated: July 8, 2008.
Gary D. Frazer,
Director, United States Fish and Wildlife Service.

[FR Doc. E8-15847 Filed 7-10-08; 8:45 am]

BILLING CODE 4310-55-P